DEPARTMENT OF TRANSPORTATION

Surface Transportation Board

[Docket No. FD 35904]

Bogalusa Bayou Railroad, L.L.C. d/b/a Geaux Geaux Railroad—Operation Exemption—Geaux Geaux Railroad, LLC

Bogalusa Bayou Railroad, L.L.C. d/b/a Geaux Geaux Railroad (BBRR), a Class III rail carrier indirectly controlled by Watco Holdings, Inc., has filed a verified notice of exemption under 49 CFR 1150.41 to operate approximately 21.95 miles of rail line (the Lines) owned by Geaux Geaux Railroad, LLC (GGRL), located: (1) Between milepost 0.00 at or near Slaughter, and milepost 9.69 at or near Zee, and (2) between milepost 345.84 at or near Slaughter, and milepost 358.10 at or near Maryland, in East Baton Rouge Parish, La.¹

¹ GGRL was granted authority to acquire the Lines in Geaux Geaux Railroad—Acquisition & Operation Exemption—Illinois Central Railroad, FD 35826 (STB served May 23, 2014).

BBRR states it has entered into an operating agreement with GGRL and that the agreement does not contain any provision that prohibits BBRR from interchanging, or limits BBRR's ability to interchange, traffic with a third party. BBRR also states that operation of the Lines will not result in significant changes in carrier operations.

BBRR certifies that its projected annual revenues as a result of this transaction will not exceed those that would qualify it as a Class II or Class I rail carrier and will not exceed $5 million.

The transaction may be consummated on or after February 28, 2015, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than February 20, 2015 (at least seven days before the exemption becomes effective).

An original and 10 copies of all pleadings, referring to Docket No. FD 35904, must be filed with the Surface Transportation Board, 395 E Street SW., Washington, DC 20423-0001. In addition, one copy of each pleading must be served on Karl Morell, Ball Janik LLP, 655 Fifteenth St. NW., Suite 225, Washington, DC 20005.

Board decisions and notices are available on our Web site at “www.stb.dot.gov.”

Decided: February 9, 2015.
By the Board, Rachel D. Campbell, Director, Office of Proceedings.
Brendetta S. Jones,
Clearance Clerk.

[FR Doc. 2015-03011 Filed 2-12-15; 8:45 am]

BILLING CODE 4915-01-P